DEPARTMENT OF HOUSING AND URBAN DEVELOPMENT

[Docket No.FR-4815-N-79]

Notice of Submission of Proposed Information Collection to OMB: Multifamily Tenant Characteristics Family Report

AGENCY: Office of the Chief Information Officer, HUD.

ACTION: Notice.

SUMMARY: The proposed information collection requirement described below has been submitted to the Office of Management and Budget (OMB) for review, as required by the Paperwork Reduction Act. The Department is soliciting public comments on the subject proposal.

The subject information is collected to ascertain public housing tenant eligibility. HUD is seeking renewal of the approval for this information collection requirement.

DATES: Comments Due Date: November 6, 2003.

ADDRESSES: Interested persons are invited to submit comments regarding this proposal. Comments should refer to the proposal by name and/or OMB approval number (2577-0083) and should be sent to: Lauren Wittenberg, OMB Desk Officer, Office of Management and Budget, Room 10235, New Executive Office Building, Washington, DC 20503; Fax number (202) 395-6974; E-mail Lauren_Wittenberg@omb.eop.gov.

FOR FURTHER INFORMATION CONTACT: Wayne Eddins, Reports Management Officer, AYO, Department of Housing and Urban Development, 451 Seventh Street, Southwest, Washington, DC 20410; e-mail Wayne_Eddins@HUD.gov; telephone (202) 708-2374. This is not a toll-free number. Copies of the proposed forms and other available documents submitted to OMB may be obtained from Mr. Eddins or on HUD's Web site at http://mf.hud.gov:63001/po/i/icbts/collectionsearch.cfm.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Multifamily Tenant Characteristics Family Report.

OMB Approval Number: 2577-0083.

Form Numbers: 50058, 50058-MTW.

Description of the Need for the Information and its Proposed Use: The Department of Housing and Urban Development (HUD) intends to revise Form HUD-50058 in a manner that will require changes to the Form HUD-50058 Module in the Public and Indian Housing Information Center (PIC), but will not require changes in software systems of public housing agencies or vendors supporting public housing agencies. HUD will maintain the current information collection burden until the changes in HUD's PIC system have been completed. Therefore, HUD seeks comments on the proposed revisions to the Form HUD-50058 and on the proposal to extend the existing Form HUD-50058 (6/2001) until the revisions are fully implemented.

The Form HUD-50058 collects demographic and income data on residents participating in PIH's Public Housing, Section 8 Housing Choice Voucher, Section 8 Project Based Certificates, and Section 8 Moderate Rehabilitation programs. Public housing agencies will transmit the form electronically to HUD at least annually for each household.

The Department updated the currently approved Form HUD-50058 by removing obsolete and unnecessary data fields. These deletions will not require vendors to modify their software for reporting family data to the Public and Indian Housing Information Center (PIC)—the information system that collects electronic Form HUD-50058 data. Public housing agencies should not modify their software to reflect the deletions, but they are no longer required to send data in the fields that HUD has deleted. If public housing agencies submit data for the deleted fields using the file structure of the current form (Form HUD-50058 (6/2001)), the PIC system will ignore the data.

HUD seeks comments on the proposal to extend the existing Form HUD-50058 MTW (6/2001). The Form HUD-50058 MTW collects demographic and income data on residents participating in PIH's Public Housing, Section 8 Housing Choice Voucher, Section 8 Project Based Certificates, and Section 8 Moderate Rehabilitation programs and whose public housing agencies participate in the Moving-to-Work (MTW) program. MTW-PHA (i.e., public housing agencies participating in the Moving-to-Work demonstration program) will transmit the form electronically to HUD at least annually for each household.

Form HUD-50058 MTW addresses the particular reporting requirements and constraints for public housing agencies that participate in the Moving-to-Work (MTW) demonstration program mandated by Section 206 of the 1996 HUD Appropriations Act. This information collection effort supports MTW program monitoring and evaluation, as required by Congress.

MTW-PHA will use the Form HUD-50058 MTW to collect data on MTW-families only. MTW-families include families who participate in any component of the MTW program. This includes families who receive self-sufficiency support services but pay rent under conventional program rules. Non-MTW-families include families who reside in a MTW-PHA but do not participate in any component of the MTW program. MTW-PHA will continue to use the regular Form HUD-50058 for Non-MTW families.

Respondents: Public housing agencies, State and local governments, individuals and households.

Frequency of Submission: Quarterly, monthly, annually.

Reporting Burden: Number of Respondents 4,526; Average responses per respondent 1,077; Total annual responses 4,874,180.

Total Estimated Burden Hours: 1,624,727.

Status: Extension of a currently approved collection; HUD is seeking renewal of the approval for this information collection requirement.

Authority: Section 3507 of the Paperwork Reduction Act of 1995, 44 U.S.C. 35, as amended.

Dated: September 30, 2003.
Wayne Eddins,
Departmental Reports Management Officer, Office of the Chief Information Officer.

[FR Doc. 03-25322 Filed 10-6-03; 8:45 am]

BILLING CODE 4210-72-P